DEPARTMENT OF ENERGY

10 CFR Part 951

[Docket Number DOE-HQ-2014-0021]

RIN 1990-AA39

Convention on Supplementary Compensation for Nuclear Damage Contingent Cost Allocation

AGENCY: Office of General Counsel, U.S. Department of Energy.

ACTION: Extension of public comment period.

SUMMARY: On August 3, 2016, the Department of Energy (DOE) issued in the Federal Register a notice and request for comments on a proposed information collection developed in connection with its proposed rulemaking under the Energy Independence and Security Act of 2007 (EISA). The notice stated that comments on the proposed information collection were to be submitted by October 3, 2016. At a public workshop held on September 16, 2016, to discuss the information collection proposal, and in written comments thereafter, members of the public requested an extension of time within which to submit comments. This document announces that the period for submitting comments on the proposed information collection is extended to November 7, 2016.

DATES: The comment period for the document published in the proposed rule section on August 3, 2016 (81 FR 51140) is extended. DOE will accept comments on the proposed information collection received no later than November 7, 2016.

ADDRESSES: Interested persons may submit comments on the proposed information collection identified by docket number DOE-HQ-2014-0021 and/or regulatory information number (RIN) 1990-AA39. Comments may be submitted using any of the following methods:

1. Federal eRulemaking Portal: www.regulations.gov. Follow the instructions for submitting comments.

2. Email: Section934Rulemaking@Hq.Doe.gov.

3. Mail: Ms. Sophia Angelini, U.S. Department of Energy, Office of General Counsel, Mailstop GC-72, Section 934 Rulemaking, 1000 Independence Avenue SW., Washington, DC 20585. Please submit one signed original and three copies of all comments submitted by mail.

Docket: For access to the docket to read background documents or comments received, go to the Federal eRulemaking Portal at http://www.regulations.gov, or the DOE Web site specifically established for this proceeding: http://www.energy.gov/gc/convention-supplementary-compensation-rulemaking. To obtain a copy of the proposed information collection instrument and instructions, you may go to the same Web site.

FOR FURTHER INFORMATION CONTACT: Sophia Angelini, Attorney-Adviser, Office of General Counsel for Civilian Nuclear Programs, GC-72, U.S. Department of Energy, 1000 Independence Avenue SW., Washington, DC 20585; Telephone (202) 586-0319.

SUPPLEMENTARY INFORMATION:

Background

On December 17, 2014, DOE published a notice of proposed rulemaking (NOPR) in the Federal Register (79 FR 75076) in which it proposed regulations under section 934 of EISA to establish a retrospective risk pooling program whereby, in the event of certain nuclear incidents, nuclear suppliers would pay for any contribution by the United States government to the international supplementary fund created by the Convention on Supplementary Compensation for Nuclear Damage (CSC). On August 3, 2016, DOE published in the Federal Register a notice and request for comments (81 FR 51193) on a proposed collection of information that it is developing in connection with the NOPR for submission to the Office of Management and Budget (OMB) pursuant to the Paperwork Reduction Act of 1995. The notice stated that comments regarding the proposed information collection were to be submitted by October 3, 2016. Also on August 3, 2016, DOE published in the proposed rules section of the Federal Register a notice of a public workshop (81 FR 51140) to discuss the proposed information collection. At the workshop held on September 16, 2016, several entities commented requesting additional time in which to submit further comments on issues raised at the workshop and in comments submitted in advance of the workshop. After the workshop, one commenter submitted a written request for an extension of the public comment period, until at least November 3, 2016. In response to public comment, DOE has determined that the request for an extension of time should be granted, and the public comment period will close on November 7, 2016.

Issued in Washington, DC, on September 21, 2016.
Samuel T. Walsh,
Deputy General Counsel for Energy Policy, Office of General Counsel.

[FR Doc. 2016-23271 Filed 9-26-16; 8:45 am]

BILLING CODE 6450-01-P